ENVIRONMENTAL PROTECTION AGENCY

40 CFR Part 19

[FRL-9988-90-OECA]

Civil Monetary Penalty Inflation Adjustment Rule

Correction

In rule document 2019-00785, appearing on pages 2056-2060, in the issue of Wednesday, February 6, 2019, make the following correction:

1. On page 2056, in the first column, in the standard document heading, the Document Identification Number that reads “[FRL-9988-90-OAR-OECA]” should read “[FRL-9988-90-OECA]”.

2. On the same page, in the second column, the “DATES:” section should read, “This final rule is effective February 6, 2019”.

§ 19.4 Statutory civil penalties, as adjusted for inflation, and tables. [Corrected]

3. On page 2058, in the third column, in the thirty-first line, “January 15, 2019” should read “February 6, 2019”.

4. On the same page, in the same column, in the thirty-sixth line, “January 15, 2019” should read “February 6, 2019”.

* * * * *

5. On pages 2058-2060, in the table titled “Table 2 of Section 19.4—Civil Monetary Penalty Inflation Adjustments”, in the sixth column headings, the date “January 15, 2019” should read “February 6, 2019”.

6. On the same pages, in the same table, in the seventh column headings, the date “January 15, 2019” should read “February 6, 2019”.

* * * * *

[FR Doc. C1-2019-00785 Filed 2-22-19; 8:45 am]

BILLING CODE 1301-0-D